DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Free Clinics FTCA Program Application (OMB No. 0915-0293)—Revision

Under 42 U.S.C. 233(o) and HRSA BPHC Policy Information Notice 2011-02, “Free Clinics Federal Tort Claims Act (FTCA) Program Policy Guide,” the FTCA Free Clinic Program requires free clinics to submit annual, renewal, and supplemental applications for the process of deeming qualified health care professionals, board members, officers, and contractors for FTCA malpractice insurance coverage. It is proposed that the application forms be modified to comply with the Patient Protection and Affordable Care Act section 10608, amending 42 U.S.C. 233(o)(1), as well as upgrade the application to provide for an electronic submission. The modifications include: (1) Inclusion of board members, officers, employees, and contractors into one comprehensive application, and (2) a fully electronic application that can be submitted electronically via e-mail or the internet. It is anticipated that these modifications will decrease the time and effort required by the current OMB approved FTCA application forms.

The annual estimate of burden is as follows:

Instrument | Number of respondents | Responses per respondent | Total responses | Hours per response | Total burden hours
Free Clinics FTCA Program Application | 200 | 1 | 200 | 14 | 2800
Total | 200 |  | 200 |  | 2800

E-mail comments to paperwork@hrsa.gov or mail the HRSA Reports Clearance Officer, Room 10-33, Parklawn Building, 5600 Fishers Lane, Rockville, MD 20857. Written comments should be received within 60 days of this notice.

Dated: May 12 2011.
Reva Harris,
Acting Director, Division of Policy and Information Coordination.

[FR Doc. 2011-12248 Filed 5-17-11; 8:45 am]

BILLING CODE 4165-15-P